DEPARTMENT OF AGRICULTURE

Forest Service

Land and Resource Management Plan Revision Schedule

AGENCY: Forest Service, USDA.

ACTION: Notice.

SUMMARY: As required by the Land and Resource Management Planning Rule adopted in November 2000, the Chief of the Forest Service has developed a Plan Revision Schedule for National Forest System units that have not completed revisions of their plans. This notice sets out the schedule and an explanation of some of the factors that affected scheduling decisions.

ADDRESSES: Questions about the revision schedule can be sent to the Director, Ecosystem Management Coordination Staff (3CEN Yates), Forest Service, USDA, PO Box 96090, Washington, DC 20090-6090.

FOR FURTHER INFORMATION CONTACT: Karen Liu, Planning Staff, EMC, (202) 205-1329; or via email at kliu@fs.fed.us.

SUPPLEMENTARY INFORMATION: The Chief's Land and Resource Management Plan (LRMP) Revision Schedule sets priorities for plan revisions based on several considerations. Those National Forest System (NFS) units facing a multitude of ecological and social concerns such as impaired waters, imperiled species, fire risk, forest health, undue human pressure, or persistent poverty were considered as high priorities for revision. Although the National Forest Management Act requires LRMPs to be revised at least every 15 years, funding and staffing shortages have prevented many National Forests and Grasslands from undertaking and completing plan revisions. In an effort to further reduce departures from the 15-year requirement, the schedule also gives priority to scheduling plan revisions that have not met the 15-year revision requirement. NFS units with recent significant amendments without the issues identified previously were considered as low priorities for revision. There was also an attempt to group NFS units with similar ecological, social, and economic settings to improve planning efficiency and, thereby, reduce planning costs.

The three tables at the end of this document display the National LRMP Revision Schedule for each unit of the National Forest System. Table 1 lists anticipated start dates for new plan revisions. Table 2 lists plan revisions already underway. The lists in Tables 1 and 2 are not organized by Region but are listed sequentially in order of the revision initiation date. Table 3 lists plan revisions completed as of November 1, 2001.

Publication of this schedule does not constitute an initiation of a plan revision process for any NFS unit. In addition, this notice and publication of the schedule does not, in itself, constitute an action subject to the NEPA procedures of 40 CFR parts 1500-1508 or Forest Service Handbook 1909.15. Finally, the Revision Schedule will be revised as needed to account for new information and changed conditions. Future changes to the schedule will be posted on the Forest Service Ecosystem Management Coordination staff website at www.fs.fed.us/emc.

Dated: November 21, 2001.
Dale N. Bosworth,
Chief.

Table 1.—Forest Plans Needing Revision
Region | State | Administrative unit | Required revision date | Revision initiation date | Revision completion date
R-1 | MT | Lolo National Forest | 2001 | 2002 | 2006
R-4 | UT | Dixie National Forest | 2001 | 2002 | 2006
R-4 | UT | Fishlake National Forest | 2001 | 2002 | 2006
R-4 | UT | Manti-LaSal National Forest | 2001 | 2002 | 2006
R-8 | AR | Ouachita National Forest | 2001 | 2002 | 2006
R-8 | AR | Ozark-St. Francis National Forest | 2001 | 2002 | 2006
R-9 | MO | Mark Twain National Forest | 2001 | 2002 | 2006
R-9 | OH | Wayne National Forest | 2003 | 2002 | 2006
R-9 | WV | Monongahela National Forest | 2001 | 2002 | 2006
R-1 | ID | Clearwater National Forest | 2002 | 2003 | 2007
R-1 | ID | Nez Perce National Forest | 2002 | 2003 | 2007
R-1 | MT | Bitterroot National Forest | 2002 | 2003 | 2007
R-4 | NV | Humboldt-Toiyabe National Forest | 2001 | 2003 | 2007
R-6 | WA | Colville National Forest | 2003 | 2003 | 2007
R-6 | WA | Okanogan National Forest | 2004 | 2003 | 2007
R-6 | WA | Wenatchee National Forest | 2005 | 2003 | 2007
R-9 | MI | Hiawatha National Forest | 2001 | 2003 | 2007
R-9 | MI | Huron-Manistee National Forest | 2001 | 2003 | 2007
R-9 | MI | Ottawa National Forest | 2001 | 2003 | 2007
R-9 | PA | Allegheny National Forest | 2001 | 2003 | 2007
R-1 | MT | Custer National Forest | 2002 | 2004 | 2008
R-1 | MT | Gallatin National Forest | 2002 | 2004 | 2008
R-2 | WY | Shoshone National Forest | 2001 | 2004 | 2008
R-4 | UT | Ashley National Forest | 2001 | 2004 | 2008
R-5 | CA | Inyo National Forest | 2003 | 2004 | 2008
R-5 | CA | Sequoia National Forest | 2003 | 2004 | 2008
R-5 | CA | Sierra National Forest | 2007 | 2004 | 2008
R-6 | OR | Malheur National Forest | 2005 | 2004 | 2008
R-6 | OR | Umatilla National Forest | 2005 | 2004 | 2008
R-6 | OR | Wallowa-Whitman National Forest | 2005 | 2004 | 2008
R-8 | KY | Land Between the Lakes National Forest (new plan) | NA | 2004 | 2008
R-1 | MT | Helena National Forest | 2001 | 2005 | 2009
R-1 | MT | Lewis & Clark National Forest | 2001 | 2005 | 2009
R-3 | AZ | Coronado National Forest | 2001 | 2005 | 2009
R-3 | AZ | Kaibab National Forest (North Kaibab Ranger District Only) | 2003 | 2005 | 2009
R-3 | AZ | Tonto National Forest (Except the Payson Ranger District) | 2000 | 2005 | 2009
R-4 | ID | Salmon-Challis National Forest | 2002 | 2005 | 2009
R-4 | WY | Bridger-Teton National Forest | 2005 | 2005 | 2009
R-8 | MS | National Forests in Mississippi | 2000 | 2005 | 2009
R-8 | NC | Nantahala-Pisgah National Forest | 2002 | 2005 | 2009
R-8 | NC | Uwharrie National Forest | 2001 | 2005 | 2009
R-3 | AZ | Apache-Sitgreaves National Forest | 2002 | 2006 | 2010
R-3 | AZ | Coconino National Forest | 2002 | 2006 | 2010
R-3 | AZ | Kaibab (Except the North Kaibab Ranger District) | 2003 | 2006 | 2010
R-3 | AZ | Prescott National Forest | 2002 | 2006 | 2010
R-3 | AZ | Tonto National Forest (Payson Ranger District Only) | 2000 | 2006 | 2010
R-3 | NM | Cibola National Forest (Magdalena Ranger District Only) | 2000 | 2006 | 2010
R-3 | NM | Gila National Forest | 2001 | 2006 | 2010
R-3 | NM | Lincoln National Forest | 2001 | 2006 | 2010
R-5 | CA | Lassen National Forest | 2008 | 2006 | 2010
R-5 | CA | Modoc National Forest | 2006 | 2006 | 2010
R-5 | CA | Plumas National Forest | 2003 | 2006 | 2010
R-6 | OR | Fremont National Forest | 2004 | 2006 | 2010
R-6 | OR | Winema National Forest | 2005 | 2006 | 2010
R-3 | NM | Carson National Forest | 2001 | 2007 | 2011
R-3 | NM | Cibola National Forest (Except Magdalena Ranger District) | 2000 | 2007 | 2011
R-3 | NM | Santa Fe National Forest | 2002 | 2007 | 2011
R-5 | CA | Eldorado National Forest | 2004 | 2007 | 2011
R-5 | CA | Lake Tahoe Basin Management Unit | 2003 | 2007 | 2011
R-5 | CA | Stanislaus National Forest | 2006 | 2007 | 2011
R-5 | CA | Tahoe National Forest | 2005 | 2007 | 2011
R-6 | OR | Deschutes National Forest | 2005 | 2007 | 2011
R-6 | OR | Ochoco National Forest | 2004 | 2007 | 2011
R-6 | OR | Rogue River National Forest | 2005 | 2007 | 2011
R-6 | OR | Siskiyou National Forest | 2004 | 2007 | 2011
R-6 | OR | Umpqua National Forest | 2005 | 2007 | 2011
R-6 | WA | Gifford Pinchot National Forest | 2005 | 2007 | 2011
R-5 | CA | Klamath National Forest | 2010 | 2008 | 2012
R-5 | CA | Mendocino National Forest | 2010 | 2008 | 2012
R-5 | CA | Shasta-Trinity National Forest | 2010 | 2008 | 2012
R-5 | CA | Six Rivers National Forest | 2010 | 2008 | 2012
R-6 | OR | Mt. Hood National Forest | 2005 | 2008 | 2012
R-6 | OR | Siuslaw National Forest | 2005 | 2008 | 2012
R-6 | OR | Willamette National Forest | 2005 | 2008 | 2012
R-6 | WA | Mt. Baker-Snoqualmie National Forest | 2005 | 2008 | 2012
R-6 | WA | Olympic National Forest | 2005 | 2008 | 2012

Table 2.—Plan Revisions Already Underway
Region | State | Administrative unit | Required revision date | Revision initiation date | Revision completion date
R-10 | AK | Chugach National Forest | 1999 | 1997 | 2002
R-1 | ND | Dakota Prairie National Grasslands | NA | 1997 | 2002
R-2 | CO | White River National Forest | 1999 | 1997 | 2002
R-2 | NE | Nebraska National Forest | 1999 | 1997 | 2002
R-2 | WY | Thunder Basin National Grasslands | 2000 | 1997 | 2002
R-8 | NC | Croatan National Forest | 2001 | 1996 | 2002
R-8 | AL | National Forests in Alabama | 2001 | 1996 | 2003
R-2 | WY | Medicine Bow National Forest (Except Thunder Basin National Grasslands) | 2000 | 1999 | 2004
R-4 | ID | Boise National Forest | 2005 | 1998 | 2002
R-4 | ID | Caribou National Forest | 2000 | 1999 | 2002
R-4 | ID | Payette National Forest | 2003 | 1998 | 2002
R-4 | ID | Sawtooth National Forest | 2002 | 1999 | 2002
R-4 | UT | Uinta National Forest | 1999 | 1999 | 2002
R-4 | UT | Wasatch-Cache National Forest | 2000 | 1999 | 2002
R-8 | GA | Chattahoochee-Oconee National Forest | 2000 | 1996 | 2003
R-8 | KY | Daniel Boone National Forest | 2000 | 1996 | 2003
R-8 | SC | Francis Marion-Sumter National Forest (Sumter Only) | 2000 | 1996 | 2003
R-8 | TN | Cherokee National Forest | 2001 | 1996 | 2003
R-8 | VA | George Washington-Jefferson National Forest (Jefferson Only) | 2000 | 1996 | 2003
R-9 | WI | Chequamegon-Nicolet National Forest | 2001 | 1996 | 2003
R-1 | MT | Kootenai National Forest | 2002 | 1996 | 2004
R-9 | MN | Chippewa National Forest | 2001 | 1997 | 2003
R-9 | MN | Superior National Forest | 2001 | 1997 | 2003
R-9 | IL | Midewin National Tallgrass Prairie (New Plan) | NA | 1998 | 2002
R-2 | CO | Grand Mesa-Uncompahgre-Gunnison National Forest | 1998 | 1999 | 2004
R-2 | CO | San Juan National Forest | 1998 | 1999 | 2004
R-2 | WY | Bighorn National Forest | 2000 | 1999 | 2004
R-2 | CO | Pike-San Isabel National Forest | 1999 | 1999 | 2005
R-9 | IL | Shawnee National Forest | 2001 | 2000 | 2004
R-9 | IN | Hoosier National Forest | 2000 | 2000 | 2004
R-9 | NH | White Mountain National Forest | 2001 | 2000 | 2004
R-5 | CA | Angeles National Forest | 2002 | 2001 | 2005
R-5 | CA | Cleveland National Forest | 2001 | 2001 | 2005
R-5 | CA | Los Padres National Forest | 2003 | 2001 | 2005
R-5 | CA | San Bernardino National Forest | 2004 | 2001 | 2005
R-1 | ID | Idaho Panhandle National Forest | 2002 | 2001 | 2005
R-1 | MT | Beaverhead-Deerlodge National Forest | 2001 | 2001 | 2005
R-1 | MT | Flathead National Forest | 2001 | 2001 | 2005
R-9 | VT | Green Mountain and Finger Lakes National Forest | 2002 | 2001 | 2005

Table 3.—Plan Revisions Completed as of November 1, 2001
Region | State | Administrative unit | Required revision date | Revision initiation date | Revision completion date
R-2 | CO | Araphaho-Roosevelt National Forest |  |  | 1998
R-2 | CO | Rio Grande National Forest |  |  | 1997
R-2 | CO | Routt National Forest |  |  | 1998
R-2 | SD | Black Hills National Forest |  |  | 1997
R-4 | ID | Targhee National Forest |  |  | 1997
R-8 | FL | National Forests in Florida |  |  | 1999
R-8 | LA | Kisatchie National Forest |  |  | 1999
R-8 | PR | Caribbean National Forest |  |  | 1997
R-8 | SC | Francis Marion-Sumter National Forest (Francis Marion Only) |  |  | 1996
R-8 | TX | National Forests and Grasslands in Texas |  |  | 1996
R-8 | VA | George Washington-Jefferson National Forest (George Washington Only) |  |  | 1993
R-10 | AK | Tongass National Forest |  |  | 1997

[FR Doc. 01-29780 Filed 11-29-01; 8:45 am]

BILLING CODE 3410-11-P